DEPARTMENT OF ENERGY

Federal Energy Regulatory Commission

Combined Notice of Filings #1

Take notice that the Commission received the following electric rate filings:

Docket Numbers: ER13-1991-004; ER13-1992-004.

Applicants: Desert Sunlight 250, LLC, Desert Sunlight 300, LLC.

Description: Notice of Change in Status of Desert Sunlight 250, LLC and Desert Sunlight 300, LLC.

Filed Date: 8/6/15.

Accession Number: 20150806-5160.

Comments Due: 5 p.m. ET 8/27/15.

Docket Numbers: ER15-1759-000.

Applicants: Midcontinent Independent System Operator, Inc.

Description: Report Filing: 2015-08-07_SA 2789 Refund Report of ATC-ITC Midwest Operating Agreement to be effective N/A.

Filed Date: 8/7/15.

Accession Number: 20150807-5050.

Comments Due: 5 p.m. ET 8/28/15.

Docket Numbers: ER15-2388-000.

Applicants: NorthWestern Corporation.

Description: Initial rate filing: SA 754—MDT Utilities Agreement re Capitol-Cedar Interchange Project to be effective 10/6/2015.

Filed Date: 8/6/15.

Accession Number: 20150806-5124.

Comments Due: 5 p.m. ET 8/27/15.

Docket Numbers: ER15-2389-000.

Applicants: PJM Interconnection, L.L.C., PPL Electric Utilities Corporation.

Description: Section 205(d) Rate Filing: PPL submits Coordination Agreement No. 1014 with Borough of Blakley to be effective 1/1/2014.

Filed Date: 8/6/15.

Accession Number: 20150806-5126.

Comments Due: 5 p.m. ET 8/27/15.

Docket Numbers: ER15-2390-000

Applicants: PJM Interconnection, L.L.C., PPL Electric Utilities Corporation.

Description: Section 205(d) Rate Filing: PPL submits Coordination Agreement No. 1018 with Borough of Hatfield to be effective 1/1/2014.

Filed Date: 8/6/15.

Accession Number: 20150806-5129.

Comments Due: 5 p.m. ET 8/27/15.

Docket Numbers: ER15-2391-000.

Applicants: PJM Interconnection, L.L.C., PPL Electric Utilities Corporation.

Description: Section 205(d) Rate Filing: PPL submits Coordination Agreement No. 1019 with Borough of Lansdale to be effective 1/1/2014.

Filed Date: 8/6/15.

Accession Number: 20150806-5132.

Comments Due: 5 p.m. ET 8/27/15.

Docket Numbers: ER15-2392-000.

Applicants: PJM Interconnection, L.L.C., PPL Electric Utilities Corporation.

Description: Section 205(d) Rate Filing: PPL submits Coordination Agreement No. 1024 with Borough of Quakertown to be effective 1/1/2014.

Filed Date: 8/6/15.

Accession Number: 20150806-5137.

Comments Due: 5 p.m. ET 8/27/15.

Docket Numbers: ER15-2393-000.

Applicants: Southern California Edison Company.

Description: Section 205(d) Rate Filing: Agreement for Additional SCE Connection to Eldorado 500 kV Switchyard to be effective 8/7/2015.

Filed Date: 8/6/15.

Accession Number: 20150806-5145.

Comments Due: 5 p.m. ET 8/27/15.

Docket Numbers: ER15-2394-000.

Applicants: Alabama Power Company.

Description: Section 205(d) Rate Filing: Infigen Energy US Development (Georgia Sun I) SGIA Filing to be effective 7/24/2015.

Filed Date: 8/7/15.

Accession Number: 20150807-5001.

Comments Due: 5 p.m. ET 8/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2015.
Nathaniel J. Davis, Sr.,
Deputy Secretary.

[FR Doc. 2015-19890 Filed 8-12-15; 8:45 am]

BILLING CODE 6717-01-P